DEPARTMENT OF JUSTICE

[AAG/A Order No. 248-2001]

Privacy Act of 1974; Notice of the Removal of a System of Records

Pursuant to the provisions of the Privacy Act of 1974 (5 U.S.C. 552a), the Bureau of Prisons (BOP), Department of Justice is removing a published Privacy Act system of records entitled “Industrial Inmate Employment Record System, JUSTICE/BOP-003.” Inmate payroll records have been transferred to the system of records entitled “Inamte Central Records, JUSTICE/BOP-005.” The remainder of the records have been destroyed in accordance with approved records retention and disposal schedules. The National Archives and Records Administration removed the requirement that any records be offered for permanent retention. Therefore, the “Inmate Central Records,” last published in the Federal Register on September 28, 1978, 43 FR 44733, is removed from the Department's compilation of Privacy Act systems.

Dated: Sept. 26, 2001.
Janis A. Sposato,
Acting Assistant Attorney General for Administration.

[FR Doc. 01-28361 Filed 11-9-01; 8:45 am]

BILLING CODE 4410-05-M